FEDERAL COMMUNICATIONS COMMISSION

[OMB 3060-XXXX; FRS 16894]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before August 31, 2020. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele, (202) 418-2991.

OMB Control Number: 3060-XXXX.

Title: Connect America Fund—Eligible Locations Adjustment Process (ELAP).

Form Number: N/A.

Type of Review: New information collection.

Respondents: Business or other for-profit entities, not-for-profit institutions, individuals or households, and state, local or tribal governments.

Number of Respondents and Responses: 296 unique respondents; 962 responses.

Estimated Time per Response: 2-40 hours.

Frequency of Response: One-time requirement.

Obligation to Respond: Voluntary. Statutory authority for this information collection is contained in 47 U.S.C. 151-154, 254.

Total Annual Burden: 10,804 hours.

Total Annual Cost: No Cost.

Privacy Act Impact Assessment: Some of the requirements contained in this information collection affect individuals or households, and thus, there are impacts under the Privacy Act. As required by the Privacy Act of 1974, as amended, 5 U.S.C. 552a, the Commission will create a system of records notice (SORN) to cover the collection, storage, maintenance, and disposal (when appropriate) of any personally identifiable information that the Commission may collect as part of the information collection.

Nature and Extent of Confidentiality: The information submitted in the ELAP Map will be made public. We intend to keep other information confidential to the extent permitted by law. Also, as noted in this document, this collection contains information that affects individuals or households, and thus, there are impacts under the Privacy Act. As required by the Privacy Act of 1974, as amended, 5 U.S.C. 552a, the Commission will create a SORN to cover the collection, storage, maintenance, and disposal (when appropriate) of any personally identifiable information that the Commission may collect as part of the information collection. USAC must preserve the confidentiality of all personally identifiable information, must not use the information except for purposes of administering the Universal Service Fund, and must not disclose such information unless directed to do so by the Commission. See ELAP Order, 34 FCC Rcd 10395, 10412-14, paras. 50-56. If the Commission requests information that the respondents believe is confidential, respondents may request confidential treatment of such information under section 0.459 of the Commission's rules.

Needs and Uses: This information collection addresses the requirements of a process (the eligible locations adjustment process (ELAP)) that facilitates the post-auction review of certain CAF Phase II Auction support recipients' defined deployment obligations (and associated support), on a state-by-state basis, in situations where the number of eligible locations within a state is less than the number of funded locations. Connect America Fund, WC Docket Nos. 10-90 et al., Order on Reconsideration, 33 FCC Rcd 1380, 1390-92, paras. 23-28 (2018) (Phase II Auction Reconsideration Order); Connect America Fund, WC Docket No. 10-90, Order, 34 FCC Rcd 10395 (WCB 2019) (adopting rules and requirements necessary to implement this process, consistent with the parameters set forth in the Phase II Auction Reconsideration Order and prior Commission guidance for adjusting defined deployment obligations) (ELAP Order). CAF Phase II Auction support recipients' participation in this process is voluntary.

ELAP requires the one-time collection of location information for all eligible locations within the state where the participant is seeking an adjustment to its defined deployment obligation. Eligible locations include every location qualifying for support (qualifying locations) and may include additional locations within eligible areas of the state that the participant will reserve as part of its defined deployment obligations, even if such locations cannot be identified as qualifying at the time of the ELAP process (prospective locations). The total number of eligible locations reported by the participant cannot exceed the participant's defined deployment obligation for the state.

Participants must also submit a description of its methods for identifying all locations qualifying for support, as well as some supporting evidence, such as copies of public records, aerial photography, location information for non-eligible locations, or similar evidence. Participants must certify the truth and accuracy of this information.

The Bureau will announce which participants have met their prima facie evidentiary standard, and the Universal Service Administrative Company (USAC) will then use certain location information (address, geocoordinates, number of units) filed by these participants to populate a publicly available map (public ELAP Map).

Other interested parties deemed eligible to participate in ELAP (stakeholders) may then challenge the accuracy and completeness of any relevant participant's eligible location information. To file such a challenge, stakeholders must submit alternative location information (of the same kind and in the same format as required of the participant), a brief description of the methods used to identify the location as an eligible location, and supporting evidence.

Stakeholders include government entities (state, local, and Tribal) as well as individuals or non-governmental entities with a legitimate and verifiable interest in ensuring broadband service in the relevant areas. Such stakeholders cannot hold a controlling interest in a competitor of the relevant participant(s).

The Bureau will use a third-party commercial verifier to confirm the eligibility of stakeholders who challenge a participant's location information. The Bureau will also separately gather certain limited information about these stakeholders (e.g., name and contact information).

All ELAP information will be filed and maintained in a new module within the High-Cost Universal Service Broadband Portal (HUBB) (OMB Control No. 3060-1228). The module will permit centralization and controlled access to ELAP information as well as maintenance of such information.

The module will incorporate several features like those required for reporting deployed location information in the HUBB. Specifically, the module will have an automated validation system that will generate error messages when the location information submitted by ELAP parties fails to meet reporting parameters (such as redundancies, required file type) as specified in the ELAP Order. Participants and stakeholders will be able to pre-file information and correct, update, add, or delete information prior to their respective filing deadline. The module will have integrated instructions and guidance for submitting information. To the extent practicable, the module will generate notices where correction, supplementation, or redaction of information is necessary.

Unlike deployed location information collected pursuant to OMB Control No. 3060-1228, all ELAP information, including the description of methods and supporting documentation as well as location data, except the location data published in the public ELAP Map, will be treated as presumptively confidential.

Federal Communications Commission.
Marlene Dortch,
Secretary,Office of the Secretary.

[FR Doc. 2020-14152 Filed 6-30-20; 8:45 am]

BILLING CODE 6712-01-P